DEPARTMENT OF EDUCATION

Notice Reopening the Application Period for Certain Applicants Under the Higher Education Emergency Relief Fund (HEERF), Sections 18004(a)(1), 18004(a)(2), and 18004(a)(3); Coronavirus Aid, Relief, and Economic Security (CARES) Act

AGENCY: Office of Postsecondary Education, Department of Education.

ACTION: Notice.

SUMMARY: The Secretary is reopening the application period for certain institutions of higher education (IHEs) that previously applied for HEERF, CARES Act funds. The Secretary takes this action to specifically allow those eligible applicants that previously submitted timely applications but were denied funding due to technical errors with their submission, additional time to submit their Certifications and Agreements (applications), and associated data submissions for approved information collections under OMB control numbers 1801-0005, 1840-0842, and 1840-0843. This reopening also permits prior applicants that did not apply for the full amount of their allocation within a particular funding stream to resubmit their applications, in order to receive the full allocation amount they were eligible to receive. This reopening does not apply to any IHE that did not apply for HEERF, CARES Act funds during a previous open period, or allow an IHE to apply to a new CARES Act funding stream.

DATES: Deadline for Transmittal of Applications: January 11, 2021.

FOR FURTHER INFORMATION CONTACT: Karen Epps, U.S. Department of Education, 400 Maryland Avenue SW, Room 250-64, Washington, DC 20202. Telephone: The Department of Education HEERF Call Center at (202) 377-3711. Email: HEERF@ed.gov. Please also visit our HEERF website at: https://www2.ed.gov/about/offices/list/ope/caresact.html.

If you use a telecommunications device for the deaf (TDD) or a text telephone (TTY), call the Federal Relay Service (FRS), toll free, at 1-800-877-8339.

SUPPLEMENTARY INFORMATION: On June 24, 2020, we published in the Federal Register a notice establishing an August 1, 2020 deadline date for IHEs that did not initially apply to receive allocations to transmit their Certification and Agreements (applications) for funds from the HEERF under sections 18004(a)(1), 18004(a)(2), and 18004(a)(3) of the CARES Act (85 FR 37923) (June 24, 2020 notice). On September 4, 2020, we published a notice in the Federal Register reopening the application period until September 30, 2020 (85 FR 55266).

The June 24, 2020 notice applied to applications under the following Catalog of Federal Domestic Assistance (CFDA) numbers:

• 84.425E—Student Aid Portion of section 18004(a)(1).

• 84.425F—Institutional Portion of section 18004(a)(1).

• 84.425J—Historically Black Colleges and Universities under section 18004(a)(2).

• 84.425K—Tribally Controlled Colleges and Universities under section 18004(a)(2).

• 84.425L—Minority Serving Institutions under section 18004(a)(2).

• 84.425M—Strengthening Institutions Program under section 18004(a)(2).

• 84.425N—Fund for the Improvement of Postsecondary Education (FIPSE) under section 18004(a)(3).

This notice reopens the period for transmittal of applications via grants.gov for the following eligible applicants until January 11, 2021.

1. IHEs that previously applied for funding, but submitted their application under the incorrect funding opportunity.

2. IHEs that previously applied for funding under a particular funding opportunity, but failed to submit all necessary documentation for that funding opportunity, such as the required data from section 4 of the CARES Act Section 18004(a)(1) Reserve Fund Application (OMB Control Number 1840-0847) (https://www2.ed.gov/about/offices/list/ope/reserveappfinal932020.pdf).

3. IHEs that previously applied for funding under the FIPSE Formula Grant program (CFDA 84.425N), but failed to submit the required budget form to complete their application

4. IHEs that previously applied for funding under the FIPSE Formula Grant program (CFDA 84.425N), but did not have an award on the section 18004(a)(1) allocation table and did not submit an application as a reserve school under the Student Aid Portion or the Institutional Portion under section 18004(a)(1). These IHEs must submit the required data from section 4 of CARES Act Section 18004(a)(1) Reserve Fund Application (OMB Control Number 1840-0847) (https://www2.ed.gov/about/offices/list/ope/reserveappfinal932020.pdf) for the Department to calculate the amount of funding they are eligible to receive under the FIPSE Formula Grant program.

5. IHEs that originally applied for less funding than they were eligible to receive under a particular funding opportunity. These IHEs may submit revised applications to that funding opportunity to receive up to the full amount of the original allocation they were eligible to receive.

Note: This notice reopens the period for transmittal of applications only for applicants that meet one of the conditions described above. The Department will not accept applications from IHEs that we cannot verify have previously attempted to apply through grants.gov for a specific HEERF funding opportunity and meet one of the conditions described above.

Note: All information in the Certification and Agreements and in the June 24, 2020 notice remains the same, except for the deadline for the transmittal of applications from eligible applicants that meet one of the conditions identified above.

Note: Projects must be awarded and operated in a manner consistent with the nondiscrimination requirements contained in the U.S. Constitution and the Federal civil rights laws.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Robert L. King,
Assistant Secretary for Postsecondary Education.

[FR Doc. 2020-28501 Filed 12-22-20; 8:45 am]

BILLING CODE 4000-01-P